DEPARTMENT OF TRANSPORTATION

Federal Aviation Administration

14 CFR Part 71

[Docket No. FAA-2020-0319; Airspace Docket No. 20-ACE-5]

RIN 2120-AA66

Proposed Amendment of Class D and E Airspace; St. Louis, MO

AGENCY: Federal Aviation Administration (FAA), DOT.

ACTION: Notice of proposed rulemaking (NPRM).

SUMMARY: This action proposes to amend the Class D airspace and the Class E surface airspace at Spirit of St. Louis Airport, St. Louis, MO, and the Class E airspace extending upward from 700 feet above the surface at St. Louis Lambert International Airport, St. Louis, MO, Spirit of St. Louis Airport, and St. Charles County Smartt Airport, St. Charles, MO, which is contained within the St. Louis, MO, airspace legal description, and removing St. Louis Regional Airport, Alton/St. Louis, IL, which is contained within the St. Louis, MO, airspace legal description. The FAA is proposing these actions as the result of airspace reviews caused by the decommissioning of the Cardinal VHF omnidirectional range (VOR) navigation aid, which provided navigation information for the instrument procedures at these airports, as part of the VOR Minimum Operational Network (MON) Program; and the decommissioning of the outer markers for runways 12R, 24, and 30L at St. Louis Lambert International Airport. The names of St. Louis Lambert International Airport and the Spirit of St. Louis: RWY 25L-LOC would also be updated to coincide with the FAA's aeronautical database.

DATES: Comments must be received on or before June 22, 2020.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2020-0319/Airspace Docket No. 20-ACE-5 at the beginning of your comments. You may also submit comments through the internet at https://www.regulations.gov. You may review the public docket containing the proposal, any comments received, and any final disposition in person in the Dockets Office between 9:00 a.m. and 5:00 p.m., Monday through Friday, except federal holidays.

FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace and the Class E surface airspace at Spirit of St. Louis Airport, St. Louis, MO, and the Class E airspace extending upward from 700 feet above the surface at St. Louis Lambert International Airport, St. Louis, MO, Spirit of St. Louis Airport, and St. Charles County Smartt Airport, St. Charles, MO, which is contained within the St. Louis, MO, airspace legal description, and removing St. Louis Regional Airport, Alton/St. Louis, IL, which is contained within the St. Louis, MO, airspace legal description, to support instrument flight rule operations at these airports.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2020-0319/Airspace Docket No. 20-ACE-5.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at http://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) part 71 by:

Amending the Class D airspace at Spirit of St. Louis Airport, St. Louis, MO, by updating the bearing of the east extension to 078° (previously 079°); and updating the bearing of the west extension to 258° (previously 259°);

Amending the Class E surface area at Spirit of St. Louis Airport by updating the bearing of the east extension to 078° (previously 079°); and updating the bearing of the west extension to 258° (previously 259°);

Amending the Class E airspace extending upward from 700 feet above the surface at St. Louis Lambert International Airport, St. Louis, MO, to within an 8.5-mile (increased from 7.1-mile) radius of the airport; removing the St. Louis Lambert International Runway 24 Localizer and the associated extension from the airspace legal description, as it is no longer needed; removing the St. Louis Lambert International Runway 12R Localizer and the associated extension from the airspace legal description, as it is no longer needed; removing the St. Louis Lambert International Runway 30L Localizer and the associated extension from the airspace legal description, as it is no longer needed; removing the ZUMAY LOM and the associated extension from the airspace legal description, as it is no longer needed; removing the OBLIO LOM and the associated extension from the airspace legal description, as it is no longer needed; updating the name of the St. Louis Lambert International Airport (previously Lambert-St. Louis International Airport) to coincide with the FAA's aeronautical database; updating the bearing of the east extension of Spirit of St. Louis Airport to 078° (previously 079°); updating the name of the Spirit of St. Louis: RWY 26L-LOC (previously Spirit of St. Louis Runway 26L Localizer) to coincide with the FAA's aeronautical database; updating the extension east of the Spirit of St. Louis: RWY 26L-LOC to within 3.8 miles (decreased from 4.1 miles) north and 5.7 miles (decreased from 6.4 miles) south of the 078° (previously 079°) bearing from the Spirit of St. Louis: RWY 26L-LOC extending from the 6.9-mile radius of the Spirit of St. Louis Airport to 10.6 miles (decreased from 11.3 miles) east of the Spirit of St. Louis: RWY 26L-LOC; updating the bearing of the west extension of Spirit of St. Louis Airport to 258° (previously 259°); adding an extension at St. Charles County Smartt Airport, St. Charles, MO, within 3.3 miles each side of the 028° radial from the St. Louis VORTAC extending from the 6.4-mile radius of St. Charles County Smartt Airport to 12.4 miles northeast of St. Charles County Smartt Airport; and removing St. Louis Regional Airport, Alton/St. Louis, IL, which is contained within the St. Louis, MO, airspace legal description, and the Civic Memorial NDB and the associated north and south extensions from St. Louis Regional Airport. (A separate airspace review of St. Louis Regional Airport resulted in the Class E airspace extending upward from 700 feet above the surface at St. Louis Regional Airport no longer adjoining the St. Louis, MO, Class E airspace extending upward from 700 feet above the surface. As a result, a separate Class E airspace extending upward from 700 feet above the surface airspace legal description will be created for Alton/St. Louis, IL, under FAA Docket No. FAA-2020-0321/Airspace Docket 20-AGL-17 and will be become effective coincidentally with this action.)

Class D and E airspace designations are published in paragraph 5000, 6002, and 6005, respectively, of FAA Order 7400.11D, dated August 8, 2019, and effective September 15, 2019, which is incorporated by reference in 14 CFR 71.1. The Class D and E airspace designations listed in this document will be published subsequently in the Order.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace.

* * * * *

ACE MO D St. Louis, MO [Amended]

Spirit of St. Louis Airport, MO

(Lat. 38°39′44″ N, long. 90°39′07″ W)

That airspace extending upward from the surface to and including 3,000 feet within a 4.4-mile radius of Spirit of St. Louis Airport, and within 1 mile each side of the 078° bearing from the airport extending from the 4.4-mile radius to 4.6 miles east of the airport, and within 1 mile each side of the 258° bearing from the airport extending from the 4.4-mile radius to 4.6 miles west of the airport, excluding that airspace within the St. Louis, MO Class B airspace area. This Class D airspace area is effective during the specific dates and times established in advance by a Notice to Airmen. The effective dates and times will thereafter be continuously published in the Chart Supplement.

Paragraph 6002 Class E Airspace Areas Designated as Surface Areas.

* * * * *

ACE MO E2 St. Louis, MO [Amended]

Spirit of St. Louis Airport, MO

(Lat. 38°39′44″ N, long. 90°39′07″ W)

That airspace extending upward from the surface to and including 3,000 feet within a 4.4-mile radius of Spirit of St. Louis Airport, and within 1 mile each side of the 078° bearing from the airport extending from the 4.4-mile radius to 4.6 miles east of the airport, and within 1 mile each side of the 258° bearing from the airport extending from the 4.4-mile radius to 4.6 miles west of the airport, excluding that airspace within the St. Louis, MO Class B airspace area. This Class D airspace area is effective during the specific dates and times established in advance by a Notice to Airmen. The effective dates and times will thereafter be continuously published in the Chart Supplement.

Paragraph 6005 Class E Airspace Areas Extending Upward From 700 Feet or More Above the Surface of the Earth.

* * * * *

ACE MO E5 St. Louis, MO [Amended]

St. Louis Lambert International Airport, MO

(Lat. 38°44′55″ N, long. 90°22′12″ W)

Spirit of St. Louis Airport, MO

(Lat. 38°39′44″ N, long. 90°39′07″ W)

St. Charles County Smartt Airport, MO

(Lat. 38°55′47″ N, long. 90°25′48″ W)

St. Louis VORTAC

(Lat. 38°51′38″ N, long. 90°28′57″ W)

Spirit of St. Louis: RWY 26L-LOC

(Lat. 38°39′26″ N, long. 90°39′48″ W)

That airspace extending upward from 700 feet above the surface within an 8.5-mile radius of St. Louis Lambert International Airport, and within a 6.9-mile radius of Spirit of St. Louis Airport, and within 2.5 miles each side of the 078° bearing from the Spirit of St. Louis Airport extending from the 6.9-mile radius of the airport to 8.1 miles east of the airport, and within 3.8 miles north and 5.7 miles south of the 078° bearing from the Spirit of St. Louis: RWY 26L-LOC extending from the 6.9-mile radius of the Spirit of St. Louis Airport to 10.6 miles east of the Spirit of St. Louis: RWY 26L-LOC, and within 3.9 miles each side of the 258° bearing from the Spirit of St. Louis Airport extending from the 6.9-mile radius of the airport to 10.6 miles west of the airport, and within a 6.4-mile radius of St. Charles County Smartt Airport, and within 3.3 miles each side of the 028° radial from the St. Louis VORTAC extending from the 6.4-mile radius of St. Charles County Smartt Airport to 12.4 miles northeast of the airport.

Issued in Fort Worth, Texas, on April 27, 2020.
Steven Phillips,
Acting Manager, Operations Support Group, ATO Central Service Center.

[FR Doc. 2020-09463 Filed 5-5-20; 8:45 am]

BILLING CODE 4910-13-P